DEPARTMENT OF THE INTERIOR

Fish and Wildlife Service

[FWS-HQ-FAC-2019-N107; FXFR13360900000-FF09F14000-190]

Aquatic Nuisance Species Task Force Meeting

AGENCY: Fish and Wildlife Service, Interior.

ACTION: Notice of meeting.

SUMMARY: The Aquatic Nuisance Species (ANS) Task Force will hold a public meeting in accordance with the Federal Advisory Committee Act. The ANS Task Force's purpose is to develop and implement a program for U.S. waters to prevent introduction and dispersal of aquatic invasive species; to monitor, control, and study such species; and to disseminate related information.

DATES: Meeting: The ANS Task Force will meet Wednesday and Thursday, November 6-7, 2019, from 8 a.m. to 5 p.m. each day.

Comment submission: You may submit written comments in advance of the meeting by emailing them to the ANS Task Force Executive Secretary by close of business on November 1, 2019.

Requests for Accommodations: Please contact the ANS Task Force Secretary no later than October 28, 2019.

ADDRESSES: Meeting location: The ANS Task Force meeting will take place at the U.S. Department of Agriculture National Agricultural Library, 10301 Baltimore Avenue, Beltsville, MD 20705 (telephone 301-504-5755).

FOR FURTHER INFORMATION CONTACT: Susan Pasko, ANS Task Force Executive Secretary, by telephone at 703-358-2466, or by email at Susan_Pasko@fws.gov.

Accessibility: The U.S. Fish and Wildlife Service is committed to providing access to this meeting for all participants. Please direct all requests for sign language interpreting services, closed captioning, or other accommodation needs to the ANS Task Force Executive Secretary, by using the contact information above or via TTY at 800-877-8339.

SUPPLEMENTARY INFORMATION: The ANS Task Force was established by the Nonindigenous Aquatic Nuisance Prevention and Control Act of 1990, as amended (NANPCA; 16 U.S.C. 4701 et seq.). The ANS Task Force is composed of 13 Federal and 13 ex-officio members, and is co-chaired by the U.S. Fish and Wildlife Service and the National Oceanic and Atmospheric Administration. The ANS Task Force's purpose is to develop and implement a program for U.S. waters to prevent introduction and dispersal of aquatic invasive species; to monitor, control, and study such species; and to disseminate related information.

The meeting is open to the public; however, for security purposes, registration is required. For more information, contact the ANS Task Force Executive Secretary (see FOR FURTHER INFORMATION CONTACT).

Meeting Agenda

• Update on new species occurrences in the United States.

• Review the role and responsibility of the ANS Task Force under the Vessel Incidental Discharge Act.

• Update from the working group meeting on genetic biocontrol of invasive species.

• Review of subcommittee work plans to advance the goals identified in the ANS Task Force Strategic Plan for 2020-2025.

• Review of management plans from other Federal interagency invasive species groups.

• Response to recommendations from the ANS Task Force regional panels.

• Public comment.

The final agenda and other related meeting information will be posted on the ANS Task Force website at https://anstaskforce.gov by October 23, 2019. Summary minutes of the meeting will be maintained by the Executive Secretary and will be available for public inspection within 90 days after the meeting at https://anstaskforce.gov.

Public Input

There will be an opportunity for public comment during the meeting. Depending on the number of people interested in addressing the Task Force, a time limit on comments may be imposed.

If you provide a written comment, before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Dated: October 16, 2019.
David W. Hoskins,
Assistant Director for Fish and Aquatic Conservation.

[FR Doc. 2019-23034 Filed 10-22-19; 8:45 am]

BILLING CODE 4333-15-P